DEPARTMENT OF TRANSPORTATION

Surface Transportation Board

[Docket No. AB 1236X]

New York & Atlantic Railway Company—Discontinuance of Service Exemption—in Queens County, N.Y.

On October 7, 2015, New York & Atlantic Railway Company (NYA) filed with the Surface Transportation Board (Board) a petition under 49 U.S.C. 10502 for exemption from the provisions of 49 U.S.C. 10903 to discontinue freight operations over the following two segments of rail line: (1) An approximately 0.69-mile segment located between milepost 0.0 and milepost 0.69, in Long Island City, N.Y., and traversing through United States Postal Service Zip Code 11101 and (2) an approximately 0.38-mile segment located between milepost 0.82 and milepost 1.2, in Long Island City, N.Y., and traversing through United States Postal Service Zip Code 11101 (collectively, the Subject Segments).

NYA is not the owner of the Subject Segments. Long Island Railroad Company (LIRR), is the owner of the Subject Segments, and has advised NYA that, based on information in LIRR's possession, the Subject Segments do not contain federally granted rights-of-way. Any documentation in NYA's possession will be made available promptly to those requesting it.

The interest of railroad employees will be protected by the conditions set forth in Oregon Short Line Railroad—Abandonment Portion Goshen Branch Between Firth & Ammon, in Bingham & Bonneville Counties, Idaho, 360 I.C.C. 91 (1979).

Because this is a discontinuance proceeding and not an abandonment proceeding, trail use/rail banking and public use conditions are not appropriate.

By issuance of this notice, the Board is instituting an exemption proceeding pursuant to 49 U.S.C. 10502(b). A final decision will be issued by January 25, 2016.

Any offer of financial assistance (OFA) under 49 CFR 1152.27(b)(2) to subsidize continued rail service will be due no later than February 4, 2016, or 10 days after service of a decision granting the petition for exemption, whichever occurs first. Each OFA must be accompanied by a $1,600 filing fee. See 49 CFR 1002.2(f)(25).

All filings in response to this notice must refer to Docket No. AB 1236X and must be sent to: (1) Surface Transportation Board, 395 E Street SW., Washington, DC 20423-0001; and (2) Rose-Michele Nardi, Transport Counsel, PC, 1701 Pennsylvania Ave. NW., Suite 300, Washington, DC 20006. Replies to the petition are due on or before November 16, 2015.

Persons seeking further information concerning discontinuance procedures may contact the Board's Office of Public Assistance, Governmental Affairs, and Compliance at (202) 245-0238 or refer to the full abandonment or discontinuance regulations at 49 CFR part 1152. Questions concerning environmental issues may be directed to the Board's Office of Environmental Analysis (OEA) at (202) 245-0305. Assistance for the hearing impaired is available through the Federal Information Relay Service (FIRS) at 1-800-877-8339.

Board decisions and notices are available on our Web site at “WWW.STB.DOT.GOV.”

Decided: October 22, 2015.

By the Board, Rachel D. Campbell, Director, Office of Proceedings.

Andrea Pope-Matheson,
Clearance Clerk.

[FR Doc. 2015-27395 Filed 10-26-15; 8:45 am]

BILLING CODE 4915-01-P